FEDERAL COMMUNICATIONS COMMISSION

Notice of Public Information Collection(s) Being Submitted to OMB for Review and Approval

July 24, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 30, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0971.

Title: Numbering Resource Optimization, Second R&O, Order on Reconsideration in CC Docket No. 96-98 and CC Docket No. 99-200, and Second FNPRM in CC Docket No. 99-200 (Second R&O).

Form Number: N/A.

Type of Review: Extension of a currently approved collection.

Respondents: Business or other for-profit entities; and State, local, or tribal governments.

Number of Respondents: 2,050.

Estimated Time per Response: 0.25 to 3 hrs.

Frequency of Response: On occasion reporting requirement; third party disclosure.

Total Annual Burden: 14,000 hrs.

Total Annual Costs: None.

Needs and Uses: The Second Report and Order in CC Docket Nos. 99-200 and 96-98, released December 29, 2000 requires that carriers, which report forecast and utilization data semi-annually to the North American Numbering Plan Administrator (NANPA) or the Pooling Administrator, duplicate the data for state commissions upon request, and that to request a “for cause” audit of a carrier, the NANPA, the Pooling Administrator, or a state commission must draft a request to the auditor stating the reason for the request, i.e., as misleading or inaccurate data, and attach supporting documentation. The FCC, state commissions, the NANPA, and the Pooling Administrator use this information to verify the validity and accuracy of the data and to assist state commissions in carrying out their numbering responsibilities, i.e., as area code relief.

OMB Control Number: 3060-0960.

Title: Application of Network Non-duplication Protection, Syndicated Exclusivity, and Sports Blackout Rules to Satellite Retransmissions.

Form Number: N/A.

Type of Review: Extension of a currently approved collection.

Respondents: Businesses or other for-profit entities.

Number of Respondents: 1,407.

Estimated Time per Response: 30 mins. to 1 hr.

Frequency of Response: On occasion reporting requirements; third party disclosure.

Total Annual Burden: 63,992 hours.

Total Annual Costs: None.

Needs and Uses: The Commission adopted a Report and Order (R&O), FCC 00-388, on October 27, 2000 to implement the SHVIA regulations that apply to network non-duplication, syndicated exclusivity, and sports blackout requirements to satellite carriers. This R&O protects the exclusive contract rights negotiated between broadcasters, distributors, and rights holders for the retransmission of network, syndicated, and sports programming in the broadcasters' recognized market areas. The R&O carries out Congress' intent in enacting SHVIA—to keep the competitive marketplace in balance by protecting the broadcasters' private contractual arrangements and ensuring that satellite carriers have regulatory obligations that are as similar as possible to cable operators.

Federal Communications Commission.
William F. Caton,
Deputy Secretary.

[FR Doc. 01-19064 Filed 7-30-01; 8:45 am]

BILLING CODE 6712-01-P